SURFACE TRANSPORTATION BOARD

49 CFR Part 1022

[Docket No. EP 716 (Sub-No. 5)]

Civil Monetary Penalties—2020 Adjustment

AGENCY: Surface Transportation Board.

ACTION: Final rule.

SUMMARY: The Surface Transportation Board (Board) is issuing a final rule to implement the annual inflationary adjustment to its civil monetary penalties, pursuant to the Federal Civil Penalties Inflation Adjustment Act Improvements Act of 2015.

DATES: This final rule is effective January 8, 2020.

FOR FURTHER INFORMATION CONTACT: Nathaniel Bawcombe at (202) 245-0376. Assistance for the hearing impaired is available through the Federal Relay Service at (800) 877-8339.

SUPPLEMENTARY INFORMATION:

I. Background

The Federal Civil Penalties Inflation Adjustment Act Improvements Act of 2015 (2015 Act), enacted as part of the Bipartisan Budget Act of 2015, Public Law 114-74, section 701, 129 Stat. 584, 599-601, requires agencies to adjust their civil penalties for inflation annually, beginning on July 1, 2016, and no later than January 15 of every year thereafter. In accordance with the 2015 Act, annual inflation adjustments are to be based on the percent change between the Consumer Price Index for all Urban Consumers (CPI-U) for October of the previous year and the October CPI-U of the year before that. Penalty level adjustments should be rounded to the nearest dollar.

II. Discussion

The statutory definition of civil monetary penalty covers various civil penalty provisions under the Rail (Part A); Motor Carriers, Water Carriers, Brokers, and Freight Forwarders (Part B); and Pipeline Carriers (Part C) provisions of the Interstate Commerce Act, as amended. The Board's civil (and criminal) penalty authority related to rail transportation appears at 49 U.S.C. 11901-11908. The Board's penalty authority related to motor carriers, water carriers, brokers, and freight forwarders appears at 49 U.S.C. 14901-14916. The Board's penalty authority related to pipeline carriers appears at 49 U.S.C. 16101-16106.¹ The Board has regulations at 49 CFR part 1022 that codify the method set forth in the 2015 Act for annually adjusting for inflation the civil monetary penalties within the Board's jurisdiction.

¹ The Board also has various criminal penalty authority, enforceable in a federal criminal court. Congress has not, however, authorized federal agencies to adjust statutorily prescribed criminal penalty provisions for inflation, and this rule does not address those provisions.

As set forth in this final rule, the Board is amending 49 CFR part 1022 to make an annual inflation adjustment to the civil monetary penalties in conformance with the requirements of the 2015 Act. The adjusted penalties set forth in the rule will apply only to violations that occur after the effective date of this regulation.

In accordance with the 2015 Act, the annual adjustment adopted here is calculated by multiplying each current penalty by the cost-of-living adjustment factor of 1.01764, which reflects the percentage change between the October 2019 CPI-U (257.346) and the October 2018 CPI-U (252.885). The table at the end of this decision shows the statutory citation for each civil penalty, a description of the provision, the adjusted statutory civil penalty level for 2019, and the adjusted statutory civil penalty level for 2020.

III. Final Rule

The final rule set forth at the end of this decision is being issued without notice and comment pursuant to the rulemaking provision of the Administrative Procedure Act (APA), 5 U.S.C. 553(b)(B), which does not require that process “when the agency for good cause finds” that public notice and comment are “unnecessary.” Here, Congress has mandated that the agency make an annual inflation adjustment to its civil monetary penalties. The Board has no discretion to set alternative levels of adjusted civil monetary penalties, because the amount of the inflation adjustment must be calculated in accordance with the statutory formula. Given the absence of discretion, the Board has determined that there is good cause to promulgate this rule without soliciting public comment and to make this regulation effective immediately upon publication.

IV. Regulatory Flexibility Statement

The Regulatory Flexibility Act (RFA), as amended by the Small Business Regulatory Enforcement Fairness Act of 1996, 5 U.S.C. 601-612, generally requires an agency to prepare a regulatory flexibility analysis of any rule subject to notice and comment rulemaking requirements, unless the agency certifies that the rule will not have a significant economic impact on a substantial number of small entities. Because the Board has determined that notice and comment are not required under the APA for this rulemaking, the requirements of the RFA do not apply.

V. Congressional Review Act

Pursuant to the Congressional Review Act, 5 U.S.C. 801-808, the Office of Information and Regulatory Affairs has designated this rule as a non-major rule, as defined by 5 U.S.C. 804(2).

VI. Paperwork Reduction Act

This final rule does not contain a new or amended information collection requirement subject to the Paperwork Reduction Act of 1995, 44 U.S.C. 3501-3521.

List of Subjects in 49 CFR Part 1022

Administrative practice and procedures, Brokers, Civil penalties, Freight forwarders, Motor carriers, Pipeline carriers, Rail carriers, Water carriers.

It is ordered:

1. The Board amends its rules as set forth in this decision. Notice of the final rule will be published in the Federal Register.

2. This decision is effective on its date of publication in the Federal Register.

Decided: January 2, 2020.
By the Board, Board Members Begeman, Fuchs, and Oberman.
Kenyatta Clay,
Clearance Clerk.

For the reasons set forth in the preamble, part 1022 of title 49, chapter X, of the Code of Federal Regulations is amended as follows:

PART 1022—CIVIL MONETARY PENALTY INFLATION ADJUSTMENT

1. The authority citation for part 1022 continues to read as follows:

Authority: 5 U.S.C. 551-557; 28 U.S.C. 2461 note; 49 U.S.C. 11901, 14901, 14903, 14904, 14905, 14906, 14907, 14908, 14910, 14915, 14916, 16101, 16103.

2. Revise § 1022.4(b) to read as follows:

§ 1022.4 Cost-of-living adjustments of civil monetary penalties.

* * * * *

(b) The cost-of-living adjustment required by the statute results in the following adjustments to the civil monetary penalties within the jurisdiction of the Board:

Table 1 to Paragraph (b)
U.S. code citation | Civil monetary penalty description | Adjusted penalty amount 2019 | Adjusted penalty amount 2020
Rail Carrier Civil Penalties
49 U.S.C. 11901(a) | Unless otherwise specified, maximum penalty for each knowing violation under this part, and for each day | $7,987 | $8,128
49 U.S.C. 11901(b) | For each violation under Section 11124(a)(2) or (b) | 799 | 813
49 U.S.C. 11901(b) | For each day violation continues. | 41 | 42
49 U.S.C. 11901(c) | Maximum penalty for each knowing violation under Sections 10901-10906 | 7,987 | 8,128
49 U.S.C. 11901(d) | For each violation under Section 11123 or 11124(a)(1) | 159-799 | 162-813
49 U.S.C. 11901(d) | For each day violation continues | 80 | 81
49 U.S.C. 11901(e)(1), (4) | For each violation under Sections 11141-11145, for each day | 799 | 813
49 U.S.C. 11901(e)(2), (4) | For each violation under Section 11144(b)(1), for each day | 159 | 162
49 U.S.C. 11901(e)(3)-(4) | For each violation of reporting requirements, for each day | 159 | 162
Motor and Water Carrier Civil Penalties
49 U.S.C. 14901(a) | Minimum penalty for each violation and for each day | 1,093 | 1,112
49 U.S.C. 14901(a) | For each violation under Section 13901 or 13902(c) | 10,932 | 11,125
49 U.S.C. 14901(a) | For each violation related to transportation of passengers | 27,331 | 27,813
49 U.S.C. 14901(b) | For each violation of the hazardous waste rules under Section 3001 of the Solid Waste Disposal Act | 21,865-43,730 | 22,251-44,501
49 U.S.C. 14901(d)(1) | Minimum penalty for each violation of household good regulations, and for each day | 1,597 | 1,625
49 U.S.C. 14901(d)(2) | Minimum penalty for each instance of transportation of household goods if broker provides estimate without carrier agreement | 15,976 | 16,258
49 U.S.C. 14901(d)(3) | Minimum penalty for each instance of transportation of household goods without being registered | 39,936 | 40,640
49 U.S.C. 14901(e) | Minimum penalty for each violation of a transportation rule | 3,195 | 3,251
49 U.S.C. 14901(e) | Minimum penalty for each additional violation | 7,987 | 8,128
49 U.S.C. 14903(a) | Maximum penalty for undercharge or overcharge of tariff rate, for each violation | 159,750 | 162,568
49 U.S.C. 14904(a) | For first violation, rebates at less than the rate in effect | 319 | 325
49 U.S.C. 14904(a) | For all subsequent violations | 400 | 407
49 U.S.C. 14904(b)(1) | Maximum penalty for first violation for undercharges by freight forwarders | 799 | 813
49 U.S.C. 14904(b)(1) | Maximum penalty for subsequent violations | 3,195 | 3,251
49 U.S.C. 14904(b)(2) | Maximum penalty for other first violations under Section 13702 | 799 | 813
49 U.S.C. 14904(b)(2) | Maximum penalty for subsequent violations | 3,195 | 3,251
49 U.S.C. 14905(a) | Maximum penalty for each knowing violation of Section 14103(a), and knowingly authorizing, consenting to, or permitting a violation of Section 14103(a) or (b) | 15,976 | 16,258
49 U.S.C. 14906 | Minimum penalty for first attempt to evade regulation | 2,187 | 2,226
49 U.S.C. 14906 | Minimum amount for each subsequent attempt to evade regulation | 5,466 | 5,562
49 U.S.C. 14907 | Maximum penalty for recordkeeping/reporting violations | 7,987 | 8,128
49 U.S.C. 14908(a)(2) | Maximum penalty for violation of Section 14908(a)(1). | 3,195 | 3,251
49 U.S.C. 14910 | When another civil penalty is not specified under this part, for each violation, for each day | 799 | 813
49 U.S.C. 14915(a)(1)-(2) | Minimum penalty for holding a household goods shipment hostage, for each day | 12,695 | 12,919
49 U.S.C. 14916(c)(1) | Maximum penalty for each violation under Section 14916(a) by knowingly authorizing, consenting to, or permitting unlawful brokerage activities | 10,932 | 11,125
Pipeline Carrier Civil Penalties
49 U.S.C. 16101(a) | Maximum penalty for violation of this part, for each day | 7,987 | 8,128
49 U.S.C. 16101(b)(1), (4) | For each recordkeeping violation under Section 15722, each day | 799 | 813
49 U.S.C. 16101(b)(2), (4) | For each inspection violation liable under Section 15722, each day | 159 | 162
49 U.S.C. 16101(b)(3)-(4) | For each reporting violation under Section 15723, each day | 159 | 162
49 U.S.C. 16103(a) | Maximum penalty for improper disclosure of information | 1,597 | 1,625

[FR Doc. 2020-00089 Filed 1-7-20; 8:45 am]

BILLING CODE 4915-01-P